DEPARTMENT OF HEALTH AND HUMAN SERVICES

Centers for Disease Control and Prevention

[30Day-17-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: YMC Tracking Study (OMB No. 0920-0582)—Extension—National Center for Chronic Disease Prevention and Health Promotion (NCCDPHP), Centers for Disease Control and Prevention (CDC).

Background

In FY 2001, Congress established the Youth Media Campaign at the Centers for Disease Control and Prevention (CDC). Specifically, the House Appropriations Language said: “The Committee believes that, if we are to have a positive impact on the future health of the American population, we must change the behaviors of our children and young adults by reaching them with important health messages.” CDC, working in collaboration with federal partners, is coordinating an effort to plan, implement, and evaluate a media campaign (Youth Media Campaign or YMC) designed to clearly communicate messages that will help kids develop habits that foster good health over a lifetime. The campaign is based on principles that have been shown to enhance success, including: designing messages based on research; testing messages with the intended audiences; involving young people in all aspects of campaign planning and implementation; enlisting the involvement and support of parents and other influencers; tracking the campaign's effectiveness and revising Campaign messages and strategies as needed.

In accordance with the original OMB approval (OMB No. 0920-0582, March 10, 2003), this request will continue to expand and enhance the ongoing monitoring of the campaign's penetration with the target audience. For the campaign to be successful, campaign planners must have mechanisms to determine the target audiences and the reaction to the campaign brand and messages as the campaign evolves. Campaign planners also need to identify which messages are likely to have the greatest impact on attitudes and desired behaviors. This approval contains 2 surveys: (1) VERB Continuous Tracking Study; and (2) Media Benchmarking Study.

The VERB Continuous Tracking Study has facilitated campaign planners' ability to continually assess and improve the effectiveness of the targeted communication and other marketing variables throughout the evolution of the campaign. It enables staff to determine which media channels are most-effective to optimize communication variables such as weight levels, frequency and reach components, and programming formats that will have the greatest effect upon communicating the desired message to the target audiences. Implementation of the survey has provided for efficient collection of campaign awareness and understanding levels on a continual basis.

The campaign uses a tracking methodology with specific time points, using age-targeted samples. Tracking methods may include, but are not limited to telephone surveys, telephone or in-person focus groups, web-based surveys, or intercept interviews with tweens (9-13 year olds), parents, other teen and adult influencers nationally and in specified cities. Marketing efforts have been implemented in selected cities, and the campaign planners will continue to evaluate which strategies are most effective in local markets.

The Media Benchmark Survey is used to assess target audience awareness and understanding of the campaign. The data collection is a random digit dial (RDD) telephone survey of tweens. Continuous tracking of awareness of the brand and the advertising messages are standard tools in advertising and marketing. The commitment of resources to the campaign's marketing efforts mandates that campaign planners be able to respond quickly to changes needed in message execution or delivery as is standard practice in the advertising industry. The annualized burden for this data collection is 2,301 hours.

Respondent | Number of respondents | Number of responses per respondent | Average burden per response (in hours)
Media Benchmark Survey:
Screener | 3,585 | 1 | 1/60
Parent | 325 | 1 | 2/60
Child | 325 | 1 | 12/60
Continuous Tracking Survey:
Screener | 29,076 | 1 | 1/60
Parent | 7,200 | 1 | 2/60
Child | 7,200 | 1 | 12/60

Dated: February 13, 2004.
Alvin Hall, M.S.,
Director, Management Analysis and Services Office, Centers for Disease Control and Prevention.

[FR Doc. 04-4219 Filed 2-25-04; 8:45 am]

BILLING CODE 4163-18-P